NUCLEAR REGULATORY COMMISSION

[Docket Nos. 50-255 and 72-007; NRC-2022-0158]

Holtec Decommissioning International, LLC, Palisades Nuclear Plant, Post-Shutdown Decommissioning Activities Report

AGENCY: Nuclear Regulatory Commission.

ACTION: Notice of receipt; availability; public meeting; and request for comment.

SUMMARY: On December 23, 2020, Holtec Decommissioning International, LLC (HDI) submitted to the U.S. Nuclear Regulatory Commission (NRC) a letter enclosing the post-shutdown decommissioning activities report (PSDAR) for the Palisades Nuclear Plant (Palisades), contingent upon the transfer of the Palisades license to HDI. The PSDAR, which includes the site-specific decommissioning cost estimate (DCE), provides an overview of HDI's planned activities, schedule, projected costs, and environmental impacts for the decommissioning of the Palisades. The Palisades license transfer transaction closed on June 28, 2022. Accordingly, the NRC is noticing receipt of the PSDAR and making it available for public comment. The NRC will hold a public meeting in the vicinity of the Palisades site to discuss the PSDAR's content and receive comments.

DATES: Submit comments by December 27, 2022. Comments received after this date will be considered, if it is practical to do so, but the NRC is able to ensure consideration only for comments received on or before this date. The public meeting will be held on Thursday, September 22, 2022, from 6:00 p.m. until 8:00 p.m. Central Time (CT), at the South Haven campus of Lake Michigan College, located at 125 Veterans Boulevard, in South Haven, Michigan. The public meeting is also accessible through an online webinar. See Section III, “Request for Comment and Public Meeting,” of this document for additional information.

ADDRESSES: You may submit comments by any of the following methods; however, the NRC encourages electronic comment submission through the Federal rulemaking website:

• Federal Rulemaking website: Go to https://www.regulations.gov and search for Docket ID NRC-2022-0158. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Marlayna Doell, Office of Nuclear Material Safety and Safeguards, U.S. Nuclear Regulatory Commission, Washington DC 20555-0001, telephone: 301-415-3178; email: Marlayna.Doell@nrc.gov.

SUPPLEMENTARY INFORMATION:

I. Obtaining Information and Submitting Comments

A. Obtaining Information

Please refer to Docket ID NRC-2022-0158 when contacting the NRC about the availability of information for this action. You may obtain publicly available information related to this action by any of the following methods:

• Federal Rulemaking website: Go to https://www.regulations.gov and search for Docket ID NRC-2022-0158.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Palisades PSDAR is available in ADAMS under Accession No. ML20358A232.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal Rulemaking website (https://www.regulations.gov). Please include Docket ID NRC-2022-0158 in your comment submission.

The NRC cautions you not to include identifying or contact information that you do not want to be publicly disclosed in your comment submission. The NRC will post all comment submissions at https://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

HDI has the authority to conduct licensed activities under Renewed Facility Operating License No. DPR 20 for Palisades and the general license for the Palisades independent spent fuel storage installation. These licenses provide, among other things, that the respective facilities are subject to all rules, regulations, and orders of the NRC now or hereafter in effect. Palisades is a pressurized-water reactor located in Covert, Michigan, in Van Buren County, that is permanently shut down.

On December 23, 2020, HDI submitted to the NRC the PSDAR for Palisades, contingent upon the transfer of the Palisades license to HDI. Paragraph 50.82(a)(4)(i) of title 10 of the Code of Federal Regulations (10 CFR), “Termination of license,” states that a PSDAR must contain a description of the planned decommissioning activities along with a schedule for their accomplishment, a discussion that provides the reasons for concluding that the environmental impacts associated with site-specific decommissioning activities will be bounded by appropriate previously issued environmental impact statements, and a site-specific DCE, including the projected cost of managing irradiated fuel. The Palisades license transfer transaction closed on June 28, 2022. Accordingly, pursuant to 10 CFR 50.82(a)(4)(ii), the NRC is noticing receipt of the PSDAR and making it available for public comment.

III. Request for Comment and Public Meeting

The NRC is requesting public comments on the PSDAR, including the DCE, for Palisades. The NRC is planning to hold a public meeting in the vicinity of Palisades to discuss the PSDAR's content and receive comments on Thursday, September 22, 2022, from 6:00 p.m. until 8:00 p.m. (CT), at the at the South Haven campus of Lake Michigan College, located at 125 Veterans Boulevard, in South Haven, Michigan. Please contact Marlayna Doell no later than September 9, 2022, if accommodations or special equipment is needed to attend or to provide comments. Additional information regarding the public meeting, including webinar information, will be posted on the NRC's public meeting website at least 10 calendar days before the meeting. The NRC's public meeting website is located at https://www.nrc.gov/public-involve.html. The NRC requests that comments that are not provided during the meeting be submitted as noted in Section I, “Obtaining Information and Submitting Comments,” of this document in writing by December 27, 2022.

Dated: August 22, 2022.
For the Nuclear Regulatory Commission.
Shaun M. Anderson,
Chief, Reactor Decommissioning Branch, Division of Decommissioning, Uranium Recovery, and Waste Programs, Office of Nuclear Material Safety and Safeguards.

[FR Doc. 2022-18387 Filed 8-25-22; 8:45 am]

BILLING CODE 7590-01-P